DEPARTMENT OF HEALTH AND HUMAN SERVICES

Health Resources and Services Administration

Discretionary Grant Funds

AGENCY: Health Resources and Services Administration (HRSA), HHS.

ACTION: Notice of Deviation: Non-Competitive Expansion Supplement Funds to the Healthcare Systems Bureau (HSB).

SUMMARY: HRSA will be issuing a non-competitive award to the Children's Hospital of Alabama's Regional Poison Control Center. The 11-month award for $126,144 will be made available in the form of a supplement to grant funds to the organization's current grant, H4BHS15500. Effective October 1, 2013, the Regional Poison Control Center will be Alabama's sole poison control center. The center's responsibility to provide poisoning triage and treatment to half the state will be expanded to the entire state. The grant supplement will allow HSB to maintain its mandate to provide grant support to the poison center and ensure ready access to poison control center services.

SUPPLEMENTARY INFORMATION: Intended Recipient of the Award: Children's Hospital of Alabama's Regional Poison Control Center (Grant #H4BHS15500).

Amount of the Non-Competitive Award: $126,144.

CFDA Number: 93.253.

Period of Supplemental Funding: 10/1/2013—8/31/2014.

Authority: SECTION 1273 of the Public Health Service Act, (42 U.S.C. 300d—73), as amended by the Poison Center Support, Enhancement, and Awareness Act of 2008.

Justification: HSB is legislatively mandated to fund poison centers; establish and maintain a single, national toll-free number (800-222-1222) to ensure universal access to poison center services; and implement a nationwide media campaign to educate the public and health care providers about poison prevention, poison center services, and the toll-free number.

To meet the legislative mandate, HSB funds the Poison Center Support and Enhancement Grant Program (H4B) CFDA 93.253. Grantees are funded based on population. The Children's Hospital of Alabama's Regional Poison Control Center (H4BHS11550) was funded at $874,061 for a 5-year project period that is due to end August 31, 2014. The funding was based on providing services to 50 percent of Alabama's population. Beginning October 1, 2013, the grantee will be responsible for providing poison center services to the state's entire population.

HSB proposes this deviation to provide a single supplement of funds in the amount of $126,144 to support the grantee's ability to provide poison center services to the state's entire population with the least amount of disruption.

FOR FURTHER INFORMATION CONTACT: Elisa Gladstone, Director, Division of Poison Control and Healthcare Facilities, Healthcare Systems Bureau, Health Resources and Services Administration, Room 10-105, Rockville, Maryland 20857; (301) 594-4394; Egladstone@hrsa.gov.

Dated: October 24, 2013.
Mary K. Wakefield,
Administrator.

[FR Doc. 2013-25890 Filed 10-30-13; 8:45 am]

BILLING CODE 4165-15-P